DEPARTMENT OF THE INTERIOR

Fish and Wildlife Service

[FWS-R4-R-2011-N241; FXRS12650400000S3-123-FF04R02000]

Establishment of Everglades Headwaters National Wildlife Refuge and Conservation Area

AGENCY: Fish and Wildlife Service, Interior.

ACTION: Notice.

SUMMARY: The Director of the U.S. Fish and Wildlife Service (Service) has approved the establishment of the Everglades Headwaters National Wildlife Refuge and Conservation Area in Polk, Osceola, Highlands, and Okeechobee Counties, Florida. The Service establishes the Refuge and Conservation Area in order to support a connected conservation landscape; to provide quality habitats for native wildlife diversity and at-risk species; to enhance water quality, quantity, and storage; and to provide opportunities for wildlife-dependent recreation.

DATES: This action was effective on December 16, 2011.

FOR FURTHER INFORMATION CONTACT: Ms. Cheri M. Ehrhardt, Natural Resource Planner, at (321) 861-2368 (telephone) or Mr. Charlie Pelizza, Refuge Manager, at (772) 562-3909, extension 244 (telephone).

SUPPLEMENTARY INFORMATION: The establishment of the Everglades Headwaters National Wildlife Refuge and Conservation Area will protect approximately 150,000 acres in central and south Florida, helping to protect and restore one of the great grassland and savanna landscapes of eastern North America, conserving one of the nation's prime areas of biological diversity. It will also help to address the threats from habitat fragmentation and urban development, altered ecological processes, and impacts from global climate change. The Service will work with willing landowners to create a 100,000-acre conservation area through conservation easements or other less-than-fee-title means, and a 50,000-acre national wildlife refuge.

The authorities to establish and manage the Everglades Headwaters National Wildlife Refuge and Conservation Area are the National Wildlife Refuge System Administration Act [16 U.S.C. 668dd(a)(2)], Endangered Species Act (16 U.S.C. 1534), Emergency Wetlands Resources Act [16 U.S.C. 3901(b), 100 Stat. 3583], Migratory Bird Conservation Act (16 U.S.C. 715d), Fish and Wildlife Act [16 U.S.C. 742f(a)(4)], and Refuge Recreation Act (16 U.S.C. 460k-460k-4).

Working with conservation land managers across this landscape, the Service will: (1) Manage the refuge and employ appropriate conditions for the conservation area to support a more connected and functional conservation landscape that will provide effective habitat connections between existing conservation areas and allow habitats and species to shift in response to urban development pressures and global climate change; (2) provide a wide range of quality Kissimmee River Basin habitats to support migratory birds, Federal- and State-listed species, State-designated species of special concern, and native wildlife diversity; (3) contribute to water quality, water quantity, and water storage capacity of the upper Everglades watershed to complement Everglades restoration goals and objectives and water quality and supply for central and south Florida; and (4) provide opportunities for hunting, fishing, wildlife observation, wildlife photography, and environmental education and interpretation, while increasing knowledge of and support for conservation of the important grassland and savanna landscape of the headwaters of the Everglades.

Several uses were evaluated in the interim compatibility determinations and determined to be compatible for the refuge. These included hunting, fishing, environmental education and interpretation, wildlife observation and photography, research, camping, hiking, horseback riding, bicycling, grazing, and off-road vehicle use (on designated roads and trails to support hunting and research). The Service is working with the Florida Fish and Wildlife Conservation Commission to establish a memorandum of understanding to also employ appropriate State wildlife management areas for hunting on properties acquired for the refuge.

On September 8, 2011, the Service published a Federal Register notice (76 FR 55699) announcing the proposed establishment of the Everglades Headwaters National Wildlife Refuge and Conservation Area, and the release for public review and comment of the Draft Land Protection Plan and Draft Environmental Assessment in accordance with National Environmental Policy Act (40 CFR 1506.6 (b)) requirements. On October 26, 2011, the Service published a Federal Register notice (76 FR 66321) announcing the extension of the comment deadline to November 25, 2011. With this extension, the public review and comment period on the Draft Land Protection Plan and Draft Environmental Assessment totaled 79 days.

Based on the documentation in the Final Land Protection Plan and Final Environmental Assessment, the Regional Director of the Southeast Region of the Service signed a Finding of No Significant Impact on December 9, 2011. Along with the interim compatibility determinations, we have developed a Conceptual Management Plan, which will serve as an interim management plan until the Service develops a Comprehensive Conservation Plan and/or appropriate step-down management plans.

Authority

This notice is published under the authority of the National Wildlife Refuge System Improvement Act of 1997, Public Law 105-57.

Daniel M. Ashe,
Director, U.S. Fish and Wildlife Service.

[FR Doc. 2012-1019 Filed 1-18-12; 8:45 am]

BILLING CODE 4310-55-P